DEPARTMENT OF THE INTERIOR

Bureau of Land Management

[LLORV00000.L10200000.XZ0000.LXSSH1050000.20X.HAG 20-0025]

Notice of Public Meetings for the John Day-Snake Resource Advisory Council Planning Subcommittee

AGENCY: Bureau of Land Management, Interior.

ACTION: Notice of public meetings.

SUMMARY: In accordance with the Federal Land Policy and Management Act of 1976 and the Federal Advisory Committee Act of 1972, the U.S. Department of the Interior, Bureau of Land Management's (BLM), John Day-Snake Resource Advisory Council (RAC) Planning Subcommittee will meet as indicated below.

DATES: The John Day-Snake Planning Subcommittee will meet via teleconference at 2:00 p.m. May 20 and Sep. 16, 2020.

ADDRESSES: The Subcommittee teleconference number is toll-free and will be published in the agenda on the RAC web page at least ten days in advance of the call at https://www.blm.gov/get-involved/resource-advisory-council/near-you/oregon-washington/john-day-rac.

FOR FURTHER INFORMATION CONTACT: Larisa Bogardus, Public Affairs Officer, 3100 H St., Baker City, Oregon 97814; 541-219-6863; lbogardus@blm.gov. Persons who use a telecommunications device for the deaf (TDD) may call the Federal Relay Service (FRS) at 1(800) 877-8339 to contact the above individual during regular business hours. The FRS is available 24 hours a day, seven days a week, to leave a message or question with the above individual. You will receive a reply during regular business hours.

SUPPLEMENTARY INFORMATION: The 15-member John Day-Snake RAC was chartered and appointed by the Secretary of the Interior. Their diverse perspectives are represented in commodity, conservation, and general interests. The Planning Subcommittee was established to gather information, conduct research, and analyze relevant issues and facts on selected topics for future consideration by the RAC. The Subcommittee's primary goal is to provide information to the RAC that allows them to better respond to time-sensitive issues, such as responding to an environmental document within the public comment period. No decisions are made at the subcommittee level.

The Designated Federal Officer will attend the call, take minutes, and publish these minutes on the RAC web page.

All calls are open to the public in their entirety. The public may send written comments to the Subcommittee in response to material presented on the call to be forwarded to the RAC for consideration. Comments can be mailed to BLM Vale District; Attn. Don Gonzalez; 100 Oregon St.; Vale, Oregon 97918.

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

Don Gonzalez,
Vale District Manager.

[FR Doc. 2020-01543 Filed 1-28-20; 8:45 am]

BILLING CODE P